ENVIRONMENTAL PROTECTION AGENCY

40 CFR Part 82

[FRL-6542-6]

RIN 2060-A173

Protection of Stratospheric Ozone: Allocation of Essential Use Allowances for Calendar Year 2000: Allocations for Metered-Dose Inhalers and the Space Shuttle and Titan Rockets

AGENCY: Environmental Protection Agency (EPA).

ACTION: Extension of comment period for interim final rule.

SUMMARY: The United States Environmental Protection Agency (EPA) is extending the comment period for the interim final rule published January 6, 2000 (65 FR 716). This interim final rule allocated essential use allowances for ozone depleting substances for calendar year 2000 and was effective on the date of publication. EPA published the allocation as an interim final rule and provided a 30 day comment period because the allocated quantities were lower than those contained in the proposed rule. However, companies who applied for essential use allowances as a part of the International Pharmaceutical Aerosol Consortium (IPAC) were not informed as to the amount of individual allowances they would receive for calendar year 2000 until January 25, 2000, after FDA provided these confidential numbers to EPA. EPA received comment from one of the IPAC companies stating that the original 30 day comment period would not allow sufficient time to formulate comments in response to the allocation of essential use allowances. Therefore, EPA is extending the deadline for submitting written comment on the allocation of essential-use allowances for calendar year 2000 for ozone depleting substances for use in medical devices and for use in the Space Shuttle Rockets and Titan Rockets until March 27, 2000.

DATES: The comment period for this interim final rule is extended until March 27, 2000.

ADDRESSES: Comments on the interim final rulemaking allocating essential use allowances for metered dose inhalers and the space shuttle and Titan Rockets (65 FR 716) should be submitted in duplicate (two copies) to: Air Docket No. A-92-13, U.S. Environmental Protection Agency, 401 M Street, SW, Room M-1500, Washington, DC, 20460. Those wishing to notify EPA of their intent to submit adverse comments on this action should contact Erin Birgfeld, U.S. Environmental Protection Agency, Stratospheric Protection Division, Office of Air and Radiation (6205J), Ariel Rios Building, 1200 Pennsylvania Avenue, NW., Washington, DC, 20460; birgfeld.erin@epa.gov; (202) 564-9079 phone and (202) 565-2095 fax.

Materials relevant to this rulemaking are contained in Docket No. A-92-13. The Docket is located in room M-1500, First Floor, Waterside Mall at the address above. The materials may be inspected from 8 a.m. until 4 p.m. Monday through Friday. A reasonable fee may be charged by EPA for copying docket materials.

FOR FURTHER INFORMATION CONTACT: Erin Birgfeld, U.S. Environmental Protection Agency, Stratospheric Protection Division, Office of Air and Radiation (6205J), Ariel Rios Building, 1200 Pennsylvania Avenue, NW., Washington, DC, 20460; birgfeld.erin@epa.gov; (202) 564-9079 phone and (202) 565-2096 fax.

Dated: February 17, 2000.
Robert Perciasepe,
Assistant Administrator, Office of Air and Radiation.

[FR Doc. 00-4520 Filed 2-24-00; 8:45 am]

BILLING CODE 6560-50-P